DEPARTMENT OF DEFENSE

Office of the Secretary

[Transmittal No. 16-52]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Pam Young, DSCA/SA&E-RAN, (703) 697-9107.

The following is a copy of a letter to the Speaker of the House of Representatives,

Transmittal 16-52 with attached Policy Justification and Sensitivity of Technology.

Dated: December 12, 2016.
Aaron Siegel,
Alternate OSD Federal Register Liaison Officer, Department of Defense.

BILLING CODE 5001-06-P

BILLING CODE 5001-06-C

Transmittal No. 16-52

Notice of Proposed Issuance of Letter of Offer Pursuant to Section 36(b)(l) of the Arms Export Control Act, as Amended

(i) Prospective Purchaser: Kingdom of Morocco.

(ii) Total Estimated Value:

Major Defense Equipment * | $101 million
Other | $ 7 million
TOTAL | $108 million

(iii) Description and Quantity or Quantities of Articles or Services under Consideration for Purchase:

Major Defense Equipment (MDE):

One thousand two-hundred (1,200) TOW 2A, Radio Frequency (RF) Missiles (BGM-71-4B-RF)

Fourteen (14) TOW 2A, Radio Frequency (RF) Missiles (Fly-to-Buy Lot Acceptance Missiles)

Non-MDE includes:

U.S. Government and contractor engineering; technical and logistics support services; and other related elements of logistics and program support.

(iv) Military Department: Army (VTG).

(v) Prior Related Cases, if any: MO-B-USZ for $137,034.913 signed on 4 May 2016.

(vi) Sales Commission, Fee, etc., Paid, Offered, or Agreed to be Paid: None.

(vii) Sensitivity of Technology Contained in the Defense Article or Defense Services Proposed to be Sold: See Attached Annex.

(viii) Date Report Delivered to Congress: December 7, 2016.

* as defined in Section 47(6) of the Arms Export Control Act.

POLICY JUSTIFICATION

Government of Morocco—Radio Frequency (RF) TOW 2A, Radio Frequency (RF) Missile (BGM-71-4B-RF and Support)

The Government of Morocco has requested a possible sale of one thousand two-hundred (1,200) TOW 2A, Radio Frequency (RF) Missiles (BGM-71-4B-RF) and fourteen (14) TOW 2A, Radio Frequency (RF) Missiles (Fly-to-Buy Lot Acceptance Missiles). Also included with this request is U.S. Government and contractor engineering, technical and logistics support services; and other related elements of logistics and program support. The estimated MDE sale is $101 million. The total estimated value is $108 million.

This proposed sale will contribute to the foreign policy and national security of the United States by helping to improve the security of a Major Non-NATO Ally that continues to be an important force for the political stability and economic progress in North Africa. This proposed sale directly supports Morocco and serves the interests of the Moroccan people and the United States.

The proposed sale of TOW 2A Missiles and technical support will advance Morocco's efforts to develop an integrated ground defense capability. Morocco will have no difficulty absorbing this equipment into its armed forces.

The proposed sale of this equipment and support will not alter the basic military balance in the region.

The principal contractors involved in this program are: Raytheon Missile Systems, Tucson, Arizona. There are no known offset agreements proposed in connection with this potential sale.

Implementation of this proposed sale will require the U.S. Government or contractor representatives to travel to Morocco.

There will be no adverse impact on U.S. defense readiness as a result of this proposed sale.

Transmittal No. 16-52

Notice of Proposed Issuance of Letter of Offer Pursuant to Section 36(b)(1) of the Arms Export Control Act, as Amended

Annex

Item No. vii

(vii) Sensitivity of Technology:

1. The Radio Frequency (RF) TOW 2A Missile (BGM-71E-4B-RF) is designed to defeat armored vehicles, reinforced urban structures, field fortifications and other such targets. TOW missiles are fired from a variety of TOW launchers in the U .S. Army, USMC, and FMS customer forces. The TOW 2A RF missile can be launched from the same launcher platforms as the existing wire-guided TOW 2A missile without modification to the launcher. The TOW 2A missile (both wire & RF) contains two trackers for the launcher to track and guide the missile in flight. Guidance commands from the launcher are provided to the missile by a RF link contained within the missile case. The hardware, software, and technical publications provided with the sale thereof are UNCLASSIFIED. However, the system itself contains sensitive technology that instructs the system on how to operate in the presence of countermeasures.

2. The highest level of classified information that must be disclosed in training to use the end item is UNCLASSIFIED. The highest level of classified information that must be disclosed in maintenance of the end item is UNCLASSIFIED. The highest level of classified information that could be disclosed by sale of the end item is SECRET. The highest level of classified information that could be revealed by testing the end item is SECRET. The highest level of classified information that could be revealed by reverse engineering of the end item is SECRET.

3. If a technologically advanced adversary were to obtain knowledge of the specific hardware and software elements, the information could be used to develop countermeasures that might reduce weapon system effectiveness or be used in the development of a system with similar or advanced capabilities.

4. All defense articles and services listed in this transmittal have been authorized for release and export to the Government of Morocco.

[FR Doc. 2016-30229 Filed 12-15-16; 8:45 am]

BILLING CODE 5001-06-P